DEPARTMENT OF HEALTH AND HUMAN SERVICES

Centers for Medicare & Medicaid Services

[Document Identifier: CMS-10041]

Emergency Clearance: Public Information Collection Requirements Submitted to the Office of Management and Budget (OMB)

AGENCY: Centers for Medicare & Medicaid Services.

In compliance with the requirement of section 3506(c)(2)(A) of the Paperwork Reduction Act of 1995, the Centers for Medicare & Medicaid services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration.

The mandate for the collection of information for the Long-Term Care Awareness Project originates with a presidential initiative in the FY 2000 budget for CMS. The overall goal of this initiative is to help Americans and their families with long-term health needs through a “national campaign to educate Medicare beneficiaries about coverage available under the new program and how to evaluate long-term care options.” Current and future beneficiaries now have the opportunity to receive information from a wide variety of printed material, telephone information, and other electronic resources. This collection of information is necessary to design and test evidence-based communication strategies for a national campaign to address the long-term health care planning needs of all Americans.

CMS is requesting OMB review and approval of this collection by October 3, 2005, with a 180-day approval period. Written comments and recommendations will be accepted from the public if received by the individuals designated below by October 1, 2005.

Type of Information Collection Request: Reinstatement, with change, of a previously approved collection for which approval has expired; Title of Information Collection: Long-Term Care Awareness Campaign Demonstration Project; Use: Data will be collected to pilot test a national campaign to educate current and future Medicare beneficiaries and their families about long-term care needs. Project findings will be used to design and implement a nationwide campaign. Respondents will be from ages 50-70; Form Number: CMS-10041 (OMB#: 0938-0847); Frequency: One-time; Affected Public: Individuals or Households; Number of Respondents: 4,500; Total Annual Responses: 4,500; Total Annual Hours: 1,350.

To obtain copies of the supporting statement and any related forms for the proposed paperwork collections referenced above, access CMS' Web site address at http://www.cms.hhs.gov/regulations/pra or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be received by the designees referenced below by October 1, 2005:

Centers for Medicare & Medicaid Services, Office of Strategic Operations and Regulatory Affairs, Room C4-26-05, 7500 Security Boulevard, Baltimore, MD 21244-1850, Attn: Melissa Musotto, CMS-10041, and,

OMB Human Resources and Housing Branch, Attention: Christopher Martin, New Executive Office Building, Room 10235, Washington, DC 20503.

Dated: August 25, 2005.
Michelle Shortt,
Director, Regulations Development Group, Office of Strategic Operations and Regulatory Affairs.

[FR Doc. 05-17524 Filed 9-1-05; 8:45 am]

BILLING CODE 4120-03-P